Title 3—

The President

Proclamation 7631 of November 27, 2002

World AIDS Day, 2002

By the President of the United States of America

A Proclamation

The HIV/AIDS pandemic has taken the lives of more than 20 million people and is projected to take millions more. On World AIDS Day, countries around the world are united to support the individuals, families, and communities affected by this disease, and to renew our commitment to preventing the spread of HIV/AIDS, developing and delivering more effective treatments, and finding a cure.

To support our struggle against HIV/AIDS, we must call upon the compassion, energy, and generosity of all people. Through their service and dedication, faith-based and volunteer organizations are providing local and global communities with strategies to confront the HIV/AIDS pandemic. By responding to the needs of their neighbors, these organizations and individual citizens offer invaluable support and hope to countless people. These organizations also help overcome dangerous barriers to HIV prevention, care, and treatment such as the stigma and discrimination that often attaches to those suffering from HIV/AIDS. By raising awareness and promoting acceptance of people living with HIV/AIDS, we help improve the lives of millions of people around the world and demonstrate the compassion of our Nation.

My Administration remains strongly committed to supporting research that treats those living with HIV/AIDS, prevents the spread of this disease, and that can develop a cure. For this coming year, my Administration has requested $2.9 billion for research on vaccines and treatments to combat the disease. This is a significant increase over prior year funding for these efforts, and expresses my Administration's commitment to helping find a cure.

To help stop the global spread of AIDS we must prevent mothers from passing the HIV virus to their children. My Administration has committed $500 million to the new International Mother and Child HIV Prevention Initiative, which will focus on countries in Africa and the Caribbean where the problem is the most severe. This Initiative seeks to treat 1 million women annually and to reduce mother-to-child transmission of HIV/AIDS by 40 percent within 5 years. It also increases the availability of preventative care and drug treatment therapy, and seeks to improve critical healthcare delivery systems. The International Mother and Child Prevention Initiative will save thousands of lives, and assist our vital effort to overcome the global devastation of HIV/AIDS.

The United States intends to provide more than $1.3 billion in 2003 to international efforts to combat HIV/AIDS, a 30 percent increase over the prior year's commitment. I was very pleased to help launch the Global Fund to Fight HIV/AIDS, Tuberculosis, and Malaria together with U.N. Secretary-General Annan and Nigerian President Obasanjo. My Administration has since then pledged $500 million to the Global Fund, and we are committed to further support the Fund as it continues to demonstrate its success.

On World AIDS Day, I urge world leaders and citizens to join the efforts to combat HIV/AIDS. By working together, we can provide hope and comfort to all those affected by this devastating disease.

NOW, THEREFORE, I, GEORGE W. BUSH, President of the United States of America, by virtue of the authority vested in me by the Constitution and laws of the United States, do hereby proclaim December 1, 2002, as World AIDS Day. I invite the Governors of the States and the Commonwealth of Puerto Rico, officials of other territories subject to the jurisdiction of the United States, and the American people to join me in reaffirming our commitment to combating HIV/AIDS. I encourage all Americans to participate in appropriate commemorative programs and ceremonies in houses of worship, workplaces, and other community centers to remember those who have lost their lives to this deadly disease and to comfort and support those living with and impacted by HIV/AIDS.

IN WITNESS WHEREOF, I have hereunto set my hand this twenty-seventh day of November, in the year of our Lord two thousand two, and of the Independence of the United States of America the two hundred and twenty-seventh.

B

[FR Doc. 02-30867

Filed 12-03-02; 8:45 am]

Billing code 3195-01-P